DEPARTMENT OF ENERGY

Federal Energy Regulatory Commission

[Docket No. EC03-96-000, et al.]

Fresno Power Investors, L.P., et al.; Electric Rate and Corporate Filings

September 29, 2003.

The following filings have been made with the Commission. The filings are listed in ascending order within each docket classification.

1. Fresno Power Investors, L.P., Harold E. Dittmer and Hanover Power (Gates), LLC

[Docket No. EC03-96-000]

Take notice that on September 24, 2003, Fresno Power Investors, L.P., Harold E. Dittmer and Hanover Power (Gates), LLC (HPG) in compliance with Commission Order dated July 7, 2003 authorizing a change in control over certain jurisdictional facilities resulting from a change in the upstream ownership interest of HPG. HPG states that it transferred it 92.5 percent ownership interest in Wellhead Power Gates, LLC to Fresno Power Investors, L.P. and Harold E. Dittmer. HPG states that the authorized transfer occurred on September 16, 2003.

Comment Date: October 15, 2003.

2. Colorado Green Holdings, LLC

[Docket No. EG03-108-000]

On September 25, 2003, Colorado Green Holdings, LLC (Colorado Green), filed with the Federal Energy Regulatory Commission an application for determination of exempt wholesale generator status pursuant to part 365 of the Commission's regulations.

Colorado Green, a Delaware limited liability company, states that it will be engaged directly and exclusively in the business of owning all or part of one or more eligible facilities, and selling electric energy at wholesale. Colorado Green states that it is developing an approximately 162 megawatt wind power generation facility to be located in Prowers County, Colorado. Colorado Green states that it has served a copy of the filing on the Securities and Exchange Commission and the Public Utilities Commission of the State of Colorado, the California Public Utilities Commission, the Oregon Public Utility Commission, the Washington Utilities and Transportation Commission, the Utah Public Service Commission, the Idaho Public Utilities Commission, and the Wyoming Public Service Commission.

Comment Date: October 20, 2003.

3. Exxon Mobil Corporation; Entergy Services, Inc.

Docket No. EL03-230-000]

Take notice that on September 16, 2003, Exxon Mobil Corporation (ExxonMobil) filed a Complaint against Entergy Services, Inc. (ESI) and Entergy Gulf States, Inc. (Entergy). ExxonMobile states that on September 28, 2001, ExxonMobil and Entergy entered into an Interconnection and Operation and Generator Imbalance Agreement (2001 Agreement) to accommodate ExxonMobil's then current plan to place a single 165MW GTG unit into cogeneration service. The Complaint alleges that the original transmission facilities described in the 2001 Agreement were improperly classified as direct assignment facilities and should be re-classified to reflect their actual, current function.

ExxonMobil states that copies of this filing have been served upon ESI and Entergy.

Comment Date: October 14, 2003.

4. Eurus ToyoWest II LLC

[Docket No. EL03-233-000]

Take notice that on September 25, 2003, Eurus ToyoWest II LLC, a Delaware limited liability company (Eurus), filed a Petition for Declaratory Order finding that, under the circumstances described in the Petition, Eurus will not be considered a public utility under the Federal Power Act should it consummate the transfer of a portion of the Sagebrush Transmission Line, as more fully described in the petition.

Comment Date: October 24, 2003.

5. Nine Mile Point Nuclear Station, LLC v. Niagara Mohawk Power Corporation

[Docket No. EL03-234-000]

Take notice that on September 26, 2003, Nine Mile Point Nuclear Station, LLC, (Nine Mile) filed a Complaint against Niagara Mohawk Power Company (Niagara Mohawk). The Complaint asserts that Niagara Mohawk, in violation of the terms of the NYISO tariff and Commission precedent, will impose unlawful charges upon Nine Mile associated with Nine Mile's self-supply of station power.

Comment Date: October 20, 2003.

6. The Cincinnati Gas & Electric Company

[Docket Nos. ER96-2504-007 and ER01-1335-002]

Take notice that on September 22, 2003, The Cincinnati Gas & Electric Company (CG&E) submitted a filing informing the Commission of a non-material change in the characteristics that the Commission relied upon in granting CG&E market-based rate authorization under section 205 of the Federal Power Act.

Comment Date: October 14, 2003.

7. Powerex Corp.

[Docket No. ER01-48-002]

Take notice that on September 24, 2003, Powerex Corp. (Powerex) tendered for filing its triennial market power analysis in support of its market-based rate authority in compliance with the Commission's September 24, 1997 and September 12, 2000, Orders accepting Powerex's market-based rate schedule.

Comment Date: October 15, 2003.

8. Southern Company Services, Inc.

[Docket No. ER02-851-010]

Take notice that on September 24, 2003, Southern Company Services, Inc. (SCS), acting on behalf of Alabama Power Company, Georgia Power Company, Gulf Power Company, Mississippi Power Company, and Savannah Electric and Power Company (collectively, Southern Companies), made a compliance filing as directed by the order of the Commission issued on March 27, 2002, 98 FERC ¶ 61,328.

Comment Date: October 15, 2003.

9. Unitil Power Corp., Unitil Resources, Inc., Fitchburg Gas and Electric Light Company

[Docket Nos. ER02-999-002, ER97-2462-012 and ER97-2463-002]

Take notice that on September 25, 2003, Unitil Power Corp., Unitil Resources, Inc., and Fitchburg Gas and Electric Light Company (Unitil Companies) tendered for filing an updated generation market power analysis pursuant to Ordering Paragraph (J) Unitil Power Corp. et al., 80 FERC ¶ 61,358 (1997).

The Unitil Companies indicate that a copy of the filing was served on the Massachusetts Department of Telecommunications and Energy and the New Hampshire Public Utilities Commission.

Comment Date: October 16, 2003.

10. Ameren Services Company, FirstEnergy Corp., Northern Indiana Public Service Company, National Grid USA, Midwest Independent Transmission System Operator, Inc.

[Docket No.ER02-2233-011]

Take notice that on September 25, 2003, the GridAmerica Participants and the Midwest Independent Transmission System Operator, Inc. (jointly, the Applicants) submitted a compliance filing pursuant to the Commission's September 15, 2003 Order, 104 FERC ¶ 61,292.

The Applicants state that in addition to serving the filing in accordance with the Commission's Regulations, the Midwest ISO has electronically served a copy of this filing, with attachments, upon all Midwest ISO Members, Member representatives of Transmission Owners and Non-Transmission Owners, the Midwest ISO Advisory Committee participants, Policy Subcommittee participants, as well as all state commissions within the region. Applicants further states that the filing has been electronically posted on the Midwest ISO's Web site at http://www.midwestiso.org under the heading “Filings to FERC” for other interested parties in this matter.

Comment Date: October 16, 2003.

11. New York Independent System Operator, Inc.

[Docket No. ER03-18-003]

Take notice that on September 24, 2003, the New York Independent System Operator, Inc. (NYISO) tendered for filing a compliance filing in accordance with the Commission=s August 25, 2003, Order Accepting Compliance Filing in part in Docket Nos. ER03-18-001 and 002.

NYISO states that copies of this filing have been served on all parties listed on the official service list maintained by the Secretary of the Commission in these proceedings. The NYISO has also served a copy of this filing to all parties that have executed Service Agreements under the NYISO's Open-Access Transmission Tariff or Services Tariff, the New York State Public Service Commission, and to the electric utility regulatory agencies in New Jersey and Pennsylvania.

Comment Date: October 15, 2003.

12. Entergy Services, Inc.

[Docket No. ER03-861-001]

Take notice that on September 25, 2003, Entergy Services, Inc. (Entergy Services), acting as agent for Entergy Arkansas, Inc., Entergy Gulf States, Inc., Entergy Louisiana, Inc., Entergy Mississippi, Inc., and Entergy New Orleans, Inc. (collectively, the Entergy Operating Companies), tendered for filing certain corrections to the 2003 annual rate redetermination for Entergy Services' Open Access Transmission Tariff (the Update).

Entergy Services states that copies of the Update have been served upon its transmission customers and its state and local regulatory commissions.

Comment Date: October 16, 2003.

13. Midwest Independent Transmission System Operator, Inc.

[Docket No. ER03-1081-001]

Take notice that on September 25, 2003, the Midwest Independent Transmission System Operator, Inc. (Midwest ISO) pursuant to section 205 of the Federal Power Act and Section 35.13 of the Commission's regulations, 18 CFR35.13, submitted for filing a revised unexecuted Interconnection and Operating Agreement among Otter Tail Power Company, FPL Energy North Dakota Wind II, LLC, and the Midwest ISO.

Midwest ISO states that a copy of this filing was served on all parties to the proceeding.

Comment Date: October 16, 2003.

14. Michigan Electric Transmission Company

[Docket No. ER03-1341-000]

Take notice that on September 12, 2003, Michigan Electric Transmission Company, LLC (METC) pursuant to the Commission's Orders issued February 13, 2002 and March 29, 2002 in Docket Nos. EC02-23-000, et al. submitted a proposal to establish the elements for an overall rate of return to apply to certain deferral mechanisms previously approved by the Commission.

METC states that copies of this filing have been served upon all transmission customers within the METC pricing zone with the Midwest Independent Transmission System Operator, Inc and on the Michigan Public Service Commission.

Comment Date: October 14, 2003.

15. PJM Interconnection, L.L.C.

[Docket Nos. ER03-1390-000]

Take notice that on September 22, 2003, PJM Interconnection, L.L.C. (PJM) filed revisions to the PJM Open Access Transmission Tariff and PJM Operating Agreement to set a limit on the number of bids or offers submitted by any single market participant in the energy market or in the periodic auctions of financial transmission rights (FTRs), which would be imposed only when necessary (and with appropriate notice) to prevent system problems. PJM states that this bid/offer limit replaces the excess bidding charge that was accepted, subject to suspension and refund, in Docket No. ER03-694-000, and the FTR bid limit that was approved in Docket No. ER03-1013-000, effective July 15, 2003.

PJM it requests an effective date of November 17, 2003 for the Tariff and Operating Agreement changes. PJM states that copies of this filing have been served on all PJM members and utility regulatory commissions in the PJM Region and on all parties listed on the official service list compiled by the Secretary in this proceeding.

Comment Date: October 14, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-25257 Filed 10-3-03; 8:45 am]

BILLING CODE 6717-01-P